DEPARTMENT OF COMMERCE

National Oceanic and Atmospheric Administration

RIN 0648-XE619

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an exempted fishing permit application contains all of the required information and warrants further consideration. This permit would allow one commercial fishing vessel to test the economic viability of using electric rod and reel gear to target pollock in the Western Gulf of Maine Closure Area, and to temporarily retain undersized catch for measurement and data collection. The privately-funded study would be conducted by a commercial fisherman as a pilot demonstration project.

Regulations under the Magnuson-Stevens Fishery Conservation and Management Act require publication of this notification to provide interested parties the opportunity to comment on applications for proposed exempted fishing permits.

DATES: Comments must be received on or before June 27, 2016.

ADDRESSES: You may submit written comments by any of the following methods:

• Email: NMFS.GAR.EFP@noaa.gov. Include in the subject line “Comments on Rod and Reel Fishing in WGOM Closed Area EFP.”

• Mail: John K. Bullard, Regional Administrator, NMFS, Greater Atlantic Regional Fisheries Office, 55 Great Republic Drive, Gloucester, MA 01930. Mark the outside of the envelope “Comments Rod and Reel Fishing in WGOM Closed Area EFP.”

FOR FURTHER INFORMATION CONTACT: Elizabeth Scheimer, Fisheries Management Specialist, 978-281-9236, Elizabeth.scheimer@noaa.gov.

SUPPLEMENTARY INFORMATION: A commercial fisherman submitted a complete application for an exempted fishing permit (EFP) on May 4, 2016, to conduct commercial fishing activities that the regulations would otherwise restrict. The EFP would authorize one vessel to use electric rod and reel gear in the Western Gulf of Maine (GOM) Closure Area and to temporarily retain undersized catch for measurement and data collection.

The project, titled “Utilization of Electric Rod and Reel to Target Pollock in WGOM Closed Area,” is privately funded by a commercial fisherman as a pilot study to test the economic viability of using electric rod and reel gear to target pollock while avoiding non-target catch. The study would take place in the Western GOM Closure Area, from June through August 2016, with one vessel planning to fish up to 5 days per month. The exemptions are necessary because groundfish vessels on commercial groundfish trips are prohibited from fishing in the Western GOM Closure Area and from retaining undersized groundfish. The vessel would use four electric rod and reels each day and fish for at least 4 to 6 hours, with an additional 5 to 6 hours of steaming, for a total trip of approximately 12 hours. Fishing would primarily occur within the Western GOM Closure Area, in the area known as “The Fingers,” with some effort being conducted outside the area. The researcher is requesting access to the Western GOM Closure Area based on his belief that pollock is concentrated in this area, and that they can be targeted with minimal catch of non-target species.

A research technician would accompany all trips that occur under this EFP to measure and document fish caught (retained and discarded), document fishing gear, bait, location, and fishing conditions to evaluate gear performance. Undersized fish would be discarded as quickly as possible after sampling. All Northeast multispecies of legal size would be landed, with all catch being attributed to the sector vessel's annual catch entitlement. Proceeds from the sales would be retained by the vessel. The participating vessel would not be exempt from any sector monitoring or reporting requirements.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 6, 2016.
Alan D. Risenhoover,
Director, Office of Sustainable Fisheries, National Marine Fisheries Service.

[FR Doc. 2016-13728 Filed 6-9-16; 8:45 am]

BILLING CODE 3510-22-P